DEPARTMENT OF LABOR

Employment and Training Administration

[TA-W-38,989]

Trico Steel Company Decatur, AL; Notice of Negative Determination Regarding Application for Reconsideration

By application dated July 26, 2001, the company requested administrative reconsideration of the Department's negative determination regarding eligibility to apply for Trade Adjustment Assistance (TAA), applicable to workers and former workers of the subject firm. The denial notice was signed on July 5, 2001, and published in the Federal Register on July 20, 2001 (66 FR 38026).

Pursuant to 29 CFR 90.18(c) reconsideration may be granted under the following circumstances:

(1) if it appears on the basis of facts not previously considered that the determination complained of was erroneous;

(2) if it appears that the determination complained of was based on a mistake in the determination of facts not previously considered; or

(3) if the opinion of the Certifying Officer, a misinterpretation of facts or of the law justified reconsideration of the decision.

The petition for the workers of Trico Steel Co., Decatur, Alabama was denied because the “contributed importantly” group eligibility requirement of section 222(3) of the Trade Act of 1974, as amended, was not met. The “contributed importantly” test is generally demonstrated through a survey of customers of the workers' firm. Respondents reported that they either did not import or had very minor and declining imports in the relevant time periods.

The petitioner feels that the time period considered in the investigation is not correct. The petitioner states that the January through March 2001 period is not representative of the relevant period. That is, the petitioner indicates that imports of hot rolled products were illegally dumped into the United States during the May through November 2000 period and therefore the Department should look at the 2000 time frame.

During the initial investigation, plant and survey data were examined for the following periods: 1999, 2000 and January through March 2001 over the corresponding 2000 period. Plant sales and production increased substantially from 1999 to 2000, followed by declines through the closure of the plant during March 2001. Employment data reported by the company was stable during the 2000 period.

The survey as already indicated, revealed that the respondents (all customers supplied by the company responded to the survey) reported that they did not import or had very minor and declining imports from 1999 to 2000. The survey further revealed that, during the January through March 2001 period over the corresponding 2000 period, imports were negligible.

Examination of industry data further revealed that United States imports of hot rolled carbon sheet steel decreased both absolutely and relative to the U.S shipments in the January through April 2001 period, compared to the same period one year earlier. In the year 2000, both U.S. shipments and U.S. imports of hot rolled carbon sheet steel increased over the 1999 period. The ratio of U.S. imports to U.S. shipments remained relatively stable in 1999 into 2000. However, during the last eight months of 2000 of the ratio of U.S. imports to U.S. shipments declined.

The petitioner further indicates that the International Trade Commission (ITC) issued a preliminary dumping duties decision against eleven countries and that the ITC investigation would examine possible trade restrictions relating to the dumping of steel under the 201 provision of the trade act.

The Department of Labor does take into consideration such factors as the International Trade Commission (ITC) preliminary dumping duties and the factors that are alleged and decided on, but also investigates each company on the basis of how increased imports impacted products produced by the petitioning plant and how increasing imports contributed importantly to the declines in employment.

The petitioner further indicates that, during the period of January through March 2001, Trico Steel Company was forced to reduce it's capacity by 50% because of high customer inventories of foreign steel that was imported during the fourth quarter of 2000.

Inventory level build up can not be considered in meeting the “contributed importantly” group eligibility requirement of section 222(3) of the Trade Act of 1974, as amended.

Conclusion

After review of the application and investigative findings, I conclude that there has been no error of misinterpretation of the law or of the facts which would justify reconsideration of the Department of Labor's prior decision. Accordingly, the application is denied.

Signed at Washington, DC this 12th day of December 2001.
Edward A. Tomchick,
Director, Division of Trade Adjustment Assistance.

[FR Doc. 01-31621 Filed 12-21-01; 8:45 am]

BILLING CODE 4510-30-M